DEPARTMENT OF THE TREASURY

United States Mint

Notification of Citizens Coinage Advisory Committee April 20, 2021, Public Meeting

ACTION: Notice of meeting.

Pursuant to United States Code, Title 31, section 5135(b)(8)(C), the United States Mint announces the Citizens Coinage Advisory Committee (CCAC) teleconference public meeting scheduled for April 20, 2021.

Date: April 20, 2021.

Time: 12:30 p.m. to 4:30 p.m. (EST).

Location: This meeting will occur via teleconference. Interested members of the public may dial in to listen to the meeting at (888) 330-1716; Access Code: 1137147.

Subject: Review and discussion of the common obverse design for the American Women Quarters Program (2022-2025) and of reverse candidate designs for the first of the 2022 American Women Quarters.

Interested persons should call the CCAC HOTLINE at (202) 354-7502 for the latest update on meeting time and access information.

The CCAC advises the Secretary of the Treasury on any theme or design proposals relating to circulating coinage, bullion coinage, Congressional Gold Medals, and national and other medals; advises the Secretary of the Treasury with regard to the events, persons, or places to be commemorated by the issuance of commemorative coins in each of the five calendar years succeeding the year in which a commemorative coin designation is made; and makes recommendations with respect to the mintage level for any commemorative coin recommended.

For members of the public interested in listening in to the provided call number, this is a reminder that the public attendance is for listening purposes only. Any member of the public interested in submitting matters for the CCAC's consideration is invited to submit them by email to info@ccac.gov.

For Accommodation Request: If you need an accommodation to listen to the CCAC meeting, please contact the Diversity Management and Civil Rights Office by April 14, 2021 at 202-354-7260 or 1-888-646-8369 (TYY)

FOR FURTHER INFORMATION CONTACT: Jennifer Warren, United States Mint Liaison to the CCAC; 801 9th Street NW, Washington, DC 20220; or call 202-354-7208.

Authority: 31 U.S.C. 5135(b)(8)(C).

Eric Anderson,
Executive Secretary, United States Mint.

[FR Doc. 2021-06720 Filed 3-31-21; 8:45 am]

BILLING CODE P